FEDERAL COMMUNICATIONS COMMISSION

[FR ID: 167766]

Privacy Act System of Records

AGENCY: Federal Communications Commission.

ACTION: Notice of a modified system of records.

SUMMARY: The Federal Communications Commission (FCC, Commission, or Agency) proposes to modify an existing system of records, FCC/CGB-1, Informal Complaints, Inquiries, and Requests for Dispute Assistance, subject to the Privacy Act of 1974, as amended. This action is necessary to meet the requirements of the Privacy Act to publish in the Federal Register notice of the existence and character of records maintained by the agency. The Commission uses records in this system to handle and process informal complaints, inquiries, and requests for dispute assistance received from individuals, groups, and other entities. This modification makes various necessary changes and updates, including formatting changes required by the Office of Management and Budget (OMB) Circular A-108 since its previous publication, the addition of new routine uses, as well as the revision of existing routine uses.

DATES: This modified system of records will become effective on September 1, 2023. Written comments on the routine uses are due by October 2, 2023. The routine uses in this action will become effective on October 2, 2023 unless comments are received that require a contrary determination.

ADDRESSES: Send comments to Katherine C. Clark, Federal Communications Commission, 45 L Street NE, Washington, DC 20554, or privacy@fcc.gov.

FOR FURTHER INFORMATION CONTACT: Katherine C. Clark, (202) 418-1773, or privacy@fcc.gov (and to obtain a copy of the Narrative Statement and the Supplementary Document, which includes details of the proposed alterations to this system of records).

SUPPLEMENTARY INFORMATION: As required by the Privacy Act of 1974, as amended, 5 U.S.C. 552a(e)(4) and (e)(11), this document sets forth notice of the proposed modification of a system of records maintained by the FCC. The FCC previously provided notice of the system of records FCC/CGB-1, Informal Complaints, Inquiries, and Requests for Dispute Assistance, by publication in the Federal Register on August 15, 2014 (79 FR 48154).

This notice serves to update and modify FCC/CGB-1 as a result of the various necessary changes and updates, including approval by the National Archives and Records Administration (NARA) of a records retention and disposal schedule for the information in this system since its previous publication. The substantive changes and modifications to the previously published version of the FCC/CGB-1 system of records include:

1. Updating the language in the Security Classification to follow OMB guidance;

2. Modifying the language in the Categories of Individuals and Categories of Records to be consistent with the language and phrasing now used in FCC SORNs;

3. Updating and/or revising language in the following routine uses (listed by current routine use number: (3) Public Disclosure; (4) Law Enforcement and Investigation; (5) Litigation; (6) Adjudication; (7) Congressional Inquiries; (8) Government-wide Program Management and Oversight; and (9) Breach Notification, the revision of which is as required by OMB Memorandum No. M-17-12;

4. Adding two new routine uses (listed by current routine use number): (10) Assistance to Federal Agencies and Entities Related to Breaches—to assist with other Federal agencies' data breach situations, which is required by OMB Memorandum No. M-17-12; and (11) Non-Federal Personnel—to provide contractors, other vendors, grantees, and volunteers who have been engaged to assist the FCC in the performance of a contract, service, grant, cooperative agreement with access to information;

5. Deleting former routine use (7) Department of Justice, which is duplicative of current routine use (5) Litigation; and

6. Updating the existing records retention and disposal schedule with a new records schedule, NARA General Records Schedule 6.5, Item 020 (DAA-0173-2019-0002).

The system of records is also updated to reflect various administrative changes related to the system managers and system addresses; policy and practices for storage and retrieval of the information; administrative, technical, and physical safeguards; and updated notification, records access, and contesting records procedures.

SYSTEM NAME AND NUMBER:

FCC/CGB-1, Informal Complaints, Inquiries, and Requests for Dispute Assistance.

SECURITY CLASSIFICATION:

Unclassified.

SYSTEM LOCATION:

Consumer and Governmental Affairs Bureau, Federal Communications Commission (FCC), 45 L Street NE, Washington, DC 20554.

SYSTEM MANAGER(s):

Consumer and Governmental Affairs Bureau, Federal Communications Commission (FCC), 45 L Street NE, Washington, DC 20554.

AUTHORITY FOR MAINTENANCE OF THE SYSTEM:

Sections 1, 4, 206, 208, 225, 226, 227, 228, 255, 258, 301, 303, 309(e), 312, 362, 364, 386, 507, 710, 713, 716, 717, and 718 of the Communications Act of 1934, as amended, 47 U.S.C. 151, 154, 206, 208, 225, 226, 227, 228, 255, 258, 301, 303, 309(e), 312, 362, 364, 386, 507, 610, 613, 617, 618, and 619; Sections 504 and 508 of the Rehabilitation Act, 29 U.S.C. 794 and 794d; and 47 CFR 0.111, 0.141, 1.711 et seq., 14.30 et seq., 20.19, 64.604, 68.414 et seq., and 79.1 et seq.

PURPOSE(S) OF THE SYSTEM:

This system will collect informal consumer complaints, inquiries, and requests for dispute assistance and related supporting materials received from individuals, groups, and other entities; company replies to informal consumer complaints, requests, inquiries, and Commission letters regarding such complaints, requests, and inquiries; and other submissions made by individuals, groups, or other entities. Collecting and maintaining these types of information allow staff access to documents necessary for key activities discussed in this SORN, including processing informal complaints, inquiries, and requests for dispute assistance; analyzing effectiveness and efficiency of related FCC programs and informing future rule- and policy-making activity; and improving staff efficiency. Records in this system are available for public inspection, e.g., in response to requests under the Freedom of Information Act (FOIA), after redaction of information that could identify the complainant or correspondent, including the complainant's name, address, telephone number, fax number, and/or email address.

CATEGORIES OF INDIVIDUALS COVERED BY THE SYSTEM:

Individuals, and individual representatives of groups or other entities who make or have made, or are responding to, informal consumer complaints, inquiries, or requests for dispute assistance, as well as Commission letters regarding such complaints, requests, and inquiries on matters arising under the Communications Act of 1934, as amended, and the Rehabilitation Act.

CATEGORIES OF RECORDS IN THE SYSTEM:

Computerized information contained in a database of inquiries, requests for dispute assistance, informal consumer complaints, and related supporting information, including personal contact information or other identifying information provided by individuals, groups, or other entities; company replies, including contact information, to informal consumer complaints, requests, inquiries, and Commission letters regarding such complaints, requests, and inquiries; and submissions that individuals, groups, or other entities make, including, but not limited to, submissions made by letter, fax, telephone, email, and via the FCC web portal for consumer complaints.

RECORD SOURCE CATEGORIES:

Information in this system is provided by individuals, groups, and other entities who make or have made, or are responding to, informal consumer complaints, inquiries, or requests for dispute assistance, as well as Commission letters regarding such complaints, requests, and inquiries on matters arising under the Communications Act of 1934, as amended, and the Rehabilitation Act.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside of the FCC as a routine use pursuant to 5 U.S.C. 552a(b)(3) as follows:

1. Informal Consumer Complaints—When a record in this system involves an informal consumer complaint filed against a service provider (e.g., broadband, telecommunications, broadcast, multi-channel video program, Voice over internet-Protocol (VoIP), etc.), the complaint may be forwarded to the subject company for a response, pursuant to Sections 4(i), 208, and 303(r) of the Communications Act of 1934, as amended.

2. Informal Complaints, Inquiries, and Requests for Dispute Assistance about Accessibility for Individuals with Disabilities—When a record in this system involves an informal complaint, inquiry, or request for dispute assistance involving or filed against a company about accessibility for individuals with disabilities, the inquiry, request, or informal complaint may be forwarded to the subject company for a response, pursuant to Section 4(i), 208, and 303(r) of the Communications Act of 1934, as amended.

3. Public Disclosure—When an order or other published Bureau- or Commission-level action (including Notices of Proposed Rulemaking, Reports and Orders, Notices of Apparent Liability, Forfeiture Orders, Consent Agreements, Notice Letters, or all other actions released by a Bureau or the Commission) includes consideration of informal complaints (including informal complaints related to accessibility for individuals with disabilities) filed against a company, the complainant's name may be made public in that order or Commission action. Where a complainant in filing his or her complaint explicitly requests confidentiality of his or her name from public disclosure, the Commission will endeavor to protect such information from public disclosure. Complaints that contain requests for confidentiality may be dismissed if the Commission determines that the request impedes the Commission's ability to investigate and/or resolve the complaint.

4. Law Enforcement and Investigation—To disclose pertinent information to the appropriate Federal, State, local, Tribal agency, or a component of such an agency, responsible for investigating, prosecuting, enforcing, or implementing a statute, rule, regulation, or order, where the FCC becomes aware of an indication of a violation or potential violation of civil or criminal law or regulation.

5. Litigation—To disclose records to the Department of Justice (DOJ) when: (a) the FCC or any component thereof; (b) any employee of the FCC in his or her official capacity; (c) any employee of the FCC in his or her individual capacity where the DOJ or the FCC has agreed to represent the employee; or (d) the United States Government is a party to litigation or has an interest in such litigation, and by careful review, the FCC determines that the records are both relevant and necessary to the litigation, and the use of such records by the DOJ is for a purpose that is compatible with the purpose for which the FCC collected the records.

6. Adjudication—To disclose records in a proceeding before a court or adjudicative body, when: (a) the FCC or any component thereof; or (b) any employee of the FCC in his or her official capacity; or (c) any employee of the FCC in his or her individual capacity; or (d) the United States Government, is a party to litigation or has an interest in such litigation, and by careful review, the FCC determines that the records are both relevant and necessary to the litigation, and that the use of such records is for a purpose that is compatible with the purpose for which the agency collected the records.

7. Congressional Inquiries—To provide information to a Congressional office from the record of an individual in response to an inquiry from the Congressional office made at the written request of that individual.

8. Government-wide Program Management and Oversight—To provide information to the DOJ to obtain the department's advice regarding disclosure obligations under the Freedom of Information Act (FOIA); or to the Office of Management and Budget (OMB) to obtain that office's advice regarding obligations under the Privacy Act.

9. Breach Notification—To appropriate agencies, entities, and persons when: (a) the Commission suspects or has confirmed that there has been a breach of Personally Identifiable Information (PII) maintained in the system of records; (b) the Commission has determined that as a result of the suspected or confirmed compromise there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

10. Assistance to Federal Agencies and Entities Related to Breaches—To another Federal agency or Federal entity, when the Commission determines that information from this system is reasonably necessary to assist the recipient agency or entity in: (a) responding to a suspected or confirmed breach or (b) preventing, minimizing, or remedying the risk of harm to individuals, the recipient agency or entity (including its information systems, program, and operations), the Federal Government, or national security, resulting from a suspected or confirmed breach.

11. Non-Federal Personnel—To disclose information to non-Federal personnel, including contractors, FCC program administrators (including USAC), other vendors (e.g., identity verification services), grantees, and volunteers who have been engaged to assist the FCC in the performance of a contract, service, grant, cooperative agreement, or other activity related to this system of records and who need to have access to the records to perform their activity.

POLICIES AND PRACTICES FOR STORAGE OF RECORDS:

This is a cloud-based computing system that utilizes the provider-supported application on the provider's cloud network (Software as a Service or SaaS).

POLICIES AND PRACTICES FOR RETRIEVAL OF RECORDS:

Records in this system of records can be retrieved by any category field, e.g., first or last name or email address.

POLICIES AND PRACTICES FOR RETENTION AND DISPOSAL OF RECORDS:

The information in this system is maintained and disposed of in accordance with the NARA General Records Schedule 6.5, Item 020 (DAA-0173-2019-0002).

ADMINISTRATIVE, TECHNICAL, AND PHYSICAL SAFEGUARDS:

The electronic records, files, and data are stored within FCC or a vendor's accreditation boundaries and maintained in a database housed in the FCC's or vendor's computer network databases. Access to the electronic files is restricted to authorized employees and contractors; and to IT staff, contractors, and vendors who maintain the IT networks and services. Other employees and contractors may be granted access on a need-to-know basis. The electronic files and records are protected by the FCC and third-party privacy safeguards, a comprehensive and dynamic set of IT safety and security protocols and features that are designed to meet all Federal privacy standards, including those required by the Federal Information Security Modernization Act of 2014 (FISMA), OMB, and the National Institute of Standards and Technology (NIST).

RECORD ACCESS PROCEDURES:

Individuals wishing to request access to and/or amendment of records about themselves should follow the Notification Procedure below.

CONTESTING RECORD PROCEDURES:

Individuals wishing to request access to and/or amendment of records about themselves should follow the Notification Procedure below.

NOTIFICATION PROCEDURES:

Individuals wishing to determine whether this system of records contains information about themselves may do so by writing to privacy@fcc.gov. Individuals requesting access or amendment of records must also comply with the FCC's Privacy Act regulations regarding verification of identity as required under 47 CFR part 0, subpart E.

EXEMPTIONS PROMULGATED FOR THE SYSTEM:

None.

HISTORY:

79 FR 48152 (August 15, 2014).

Federal Communications Commission.
Marlene Dortch,
Secretary.

[FR Doc. 2023-18948 Filed 8-31-23; 8:45 am]

BILLING CODE 6712-01-P